DEPARTMENT OF VETERANS AFFAIRS

38 CFR Part 17

Notice of Request for Information on Information and Documentation Required for Clean Claims for Care and Services

AGENCY: Department of Veterans Affairs.

ACTION: Request for information.

SUMMARY: The Department of Veterans Affairs (VA) is requesting information from the public to inform VA's determination regarding the information and documentation that VA will require certain health care entities and providers to submit with certain claims for payment for hospital care, medical services, or extended care services. Specifically, VA is requesting input regarding what information and documentation VA should require non-Federal health care entities and providers to submit with certain claims for payment for hospital care, medical services, or extended care services furnished under chapter 17 of title 38, United States Code (U.S.C.) in order for such claims to constitute “clean claims” under section 1703D of title 38 U.S.C.

DATES: Comments must be received on or before August 8, 2019.

ADDRESSES: Written comments may be submitted through http://www.regulations.gov; by mail or hand delivery to the Director, Office of Regulation Policy and Management (00REG), Department of Veterans Affairs, 810 Vermont Avenue NW, Room 1064, Washington, DC 20420; or by fax to (202) 273-9026. Comments should indicate that they are submitted in response to “Notice of Request for Information on Information and Documentation Required for Clean Claims for Care and Services.” Copies of comments received will be available for public inspection in the Office of Regulation Policy and Management, Room 1064, between the hours of 8:00 a.m. and 4:30 p.m., Monday through Friday (except Federal holidays). Please call (202) 461-4902 (this is not a toll-free number) for an appointment. During the comment period, comments may also be viewed online through the Federal Docket Management System at www.regulations.gov.

FOR FURTHER INFORMATION CONTACT: Joseph Duran, Office of Community Care (10D), Veterans Health Administration (VHA), Department of Veterans Affairs, Ptarmigan at Cherry Creek, Denver, CO 80209; Joseph.Duran2@va.gov, (303) 370-1637 (this is not a toll-free number).

SUPPLEMENTARY INFORMATION: The John S. McCain III, Daniel K. Akaka, and Samuel R. Johnson VA Maintaining Internal Systems and Strengthening Integrated Outside Networks Act of 2018 (commonly called MISSION Act, Pub. L. 115-182), created new section 1703D of title 38 U.S.C. concerning claims for payment for hospital care, medical services, and extended care services furnished by non-Federal entities and providers under chapter 17 of title 38 U.S.C. Section 1703D(f)(1) requires VA to provide to all non-Federal health care entities and providers participating in a program to furnish such care or services a list of information and documentation that VA requires to establish a clean claim under section 1703D. Section 1703D(f)(2) requires VA to consult with entities in the health care industry, in the public and private sectors, to determine the information and documentation that VA will include in that list. This notice identifies some of the information and documentation that VA proposes including in that list and solicits feedback from the public (in particular entities in the health care industry), to determine if these requirements regarding information and documentation are appropriate. This notice also requests input regarding any other information and/or documentation requirements that entities in the health care industry recommend VA include in that list. Responses to this notice will support VA's determination of which information and documentation will be required for a claim to be considered clean under section 1703D.

This notice is a request for information only. Commenters are encouraged to provide complete, but concise, responses to the specific requests and statements outlined below. VA may choose to contact individual commenters, and such communications would serve to further clarify their written comments.

Request for Information: VA requests information that will assist in developing a list of information and documentation, as mandated by section 1703D(f)(1), that will be required to establish a clean claim under section 1703D. The information and documentation identified on that list will be that which is necessary for accurate adjudication of the claim, to include data elements that, at a minimum: Accurately identify the patient; accurately identify the entity or provider that furnished the care and/or services; and accurately identify the care and services furnished. VA's specific requests for information follow:

1. VA requests information related to the statements below:

A. VA proposes that entities and providers must submit paper claims for institutional (facility) charges on the Centers for Medicare and Medicaid Services (CMS)—1450 Form; Form Title: UB-04 Uniform Bill.

B. VA proposes that entities and providers must submit paper claims for non-institutional (professional) charges on the CMS-1500 Form; Form Title: Health Insurance Claim Form.

C. VA proposes that entities and providers must submit electronic claims for institutional (facility) charges in the American National Standards Institute (ANSI) Accredited Standards Committee (ASC) X12N 837I (Institutional) format, the electronic claim version of CMS-1450.

D. VA proposes that entities and providers must submit electronic claims for non-institutional (professional) charges in the ANSI ASC X12N 837P (Professional) format, the electronic claim version of CMS-1500.

E. VA proposes that claims must contain the correct member identifier, which, at this time, is the veteran's or beneficiary's Social Security Number.

F. In 2019, VA will have Electronic Data Interchange (EDI) ASC X12N/005010X210 Patient Information (275) transaction attachment capabilities with the implementation of an X12 275 solution. However, a recent Council for Affordable Quality Healthcare (CAQH) report, “A Report of Healthcare Industry Adoption of Electronic Business Transactions and Cost Savings”, indicated that there is very little adoption of the 275 electronic administrative transaction type throughout the health care industry (https://www.caqh.org/sites/default/files/explorations/index/report/2018-index-report.pdf). VA is interested in understanding the barriers to and timelines for wider 275 transaction adoption to consider potential complications to broad implementation of an EDI claim submission mandate.

2. In addition to information regarding the specific statements above, VA also requests any other information and/or documentation that entities and providers in the health care industry recommend VA include on the list.

Signing Authority

The Secretary of Veterans Affairs, or designee, approved this document and authorized the undersigned to sign and submit the document to the Office of the Federal Register for publication electronically as an official document of the Department of Veterans Affairs. Robert L. Wilkie, Secretary, Department of Veterans Affairs, approved this document on June 26, 2019, for publication.

Dated: July 3, 2019.
Luvenia Potts,
Program Specialist, Office of Regulation Policy & Management, Office of the Secretary, Department of Veterans Affairs.

[FR Doc. 2019-14527 Filed 7-8-19; 8:45 am]

BILLING CODE 8320-01-P